DEPARTMENT OF HEALTH AND HUMAN SERVICES

Office of the Secretary

Delegation of Authority

Notice is hereby given that I have delegated to the Assistant Secretary for Preparedness and Response the authorities vested in the Secretary of Health and Human Services under section 319C-2, 319F, and 319I of the Public Health Service Act, as amended, as it pertains to the functions assigned to the Assistant Secretary for Preparedness and Response. These delegations to the Assistant Secretary for Preparedness and Response include the authority vested in the Secretary of Health and Human Services to continue the administration of any grants and contracts initially awarded by the Health Resources and Services Administration under sections 319C-1, 319C-2, 319F, and 319I of the Public Health Service Act. This delegation permits the Assistant Secretary for Preparedness and Response to administer grants and contracts under the terms and conditions of the initial awards.

This authority may be redelegated. These delegations shall be exercised under the Department's policy on regulations and the existing delegation of authority to approve and issue regulations. This delegation excludes the authority to issue reports to Congress and to take final action to withhold funds from States.

This delegation supersedes all prior delegations of authority to the Health Resources and Services Administration's officials to the extent that they are inconsistent with the provisions of this delegation.

I have ratified any actions taken by the Assistant Secretary for Preparedness and Response, or any other Office of the Assistant Secretary for Preparedness and Response officials, which, in effect, involved the exercise of this authority prior to the effective date of this delegation.

This delegation is effective immediately.

Dated: April 16, 2007.
Michael O. Leavitt,
Secretary.

[FR Doc. 07-2193 Filed 5-3-07; 8:45 am]

BILLING CODE 4150-37-M